FEDERAL EMERGENCY MANAGEMENT AGENCY

44 CFR Part 65

[Docket No. FEMA-B-7426]

Changes in Flood Elevation Determinations

AGENCY: Federal Emergency Management Agency (FEMA).

ACTION: Interim rule.

SUMMARY: This interim rule lists communities where modification of the Base (1-percent-annual-chance) Flood Elevations is appropriate because of new scientific or technical data. New flood insurance premium rates will be calculated from the modified Base Flood Elevations for new buildings and their contents.

DATES: These modified Base Flood Elevations are currently in effect on the dates listed in the table below and revise the Flood Insurance Rate Maps in effect prior to this determination for each listed community.

From the date of the second publication of these changes in a newspaper of local circulation, any person has ninety (90) days in which to request through the community that the Director, Federal Insurance and Mitigation Administration, reconsider the changes. The modified elevations may be changed during the 90-day period.

ADDRESSES: The modified Base Flood Elevations for each community are available for inspection at the office of the Chief Executive Officer of each community. The respective addresses are listed in the table below.

FOR FURTHER INFORMATION CONTACT: Matthew B. Miller, P.E., Chief, Hazards Study Branch, Federal Insurance and Mitigation Administration, 500 C Street SW., Washington, DC 20472, (202) 646-3461, or (e-mail) matt.miller@fema.gov.

SUPPLEMENTARY INFORMATION: The modified Base Flood Elevations are not listed for each community in this interim rule. However, the address of the Chief Executive Officer of the community where the modified Base Flood Elevation determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in Base Flood Elevations are in accordance with 44 CFR 65.4.

National Environmental Policy Act

This rule is categorically excluded from the requirements of 44 CFR part 10, Environmental Consideration. No environmental impact assessment has been prepared.

Regulatory Flexibility Act

The Administrator, Federal Insurance and Mitigation Administration certifies that this rule is exempt from the requirements of the Regulatory Flexibility Act because modified Base Flood Elevations are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR 1978 Comp., p. 329; E.O. 12127, 44 FR 19367, 3 CFR 1979 Comp., p. 376.

§ 65.4 [Amended]

2. The tables published under the authority of § 65.4 are amended as follows:

State and county | Location and case No. | Dates and name of newspaper where notice was published | Chief executive officer of community | Effective date of modification | Community No.
Arizona:
Maricopa | Town of Buckeye (01-09-453P) | November 1, 2001; November 8, 2001; Blackeye Valley News | The Honorable Dusty Hull, Mayor, Town of Buckeye, 100 North Apache Road, Suite A, Buckeye, Arizona 85326 | October 9, 2001 | 040039
Maricopa | Town of Cave Creek (02-09-241X) | December 27, 2001; January 3, 2002; Arizona Republic | The Honorable Vincent Francia, Mayor, Town of Cave Creek, Cave Creek Town Hall, 37622 North Cave Creek Road, Cave Creek, AZ 85331 | April 3, 2002 | 040129
Maricopa | City of Phoenix (01-09-1003P) | September 21, 2001; September 28, 2001; Arizona Republic | The Honorable Skip Rimsza, Mayor, City of Phoenix, 200 West Washington Street, 11th Floor, Phoenix, Arizona 85003-1611 | September 10, 2001 | 040051
Maricopa | City of Phoenix (01-09-285P) | November 8, 2001; November 15, 2001; Arizona Republic | The Honorable Skip Rimsza, Mayor, City of Phoenix, 200 West Washington Street, 11th Floor, Phoenix, Arizona 85003-1611 | October 15, 2001 | 040051
Maricopa | Unicorporated Areas of Maricopa (01-09-453P) | November 1, 2001; November 8, 2001; Buckeye Valley News | The Honorable Janice K. Brewer, Chairperson, Maricopa County Board of Supervisors, 301 West Jefferson Street, 10th Floor, Phoenix, Arizona 85003 | October 9, 2001 | 040037
Maricopa | Unincorporated Areas of Maricopa (02-09-241X) | December 27, 2001; January 3, 2002; Arizona Republic | The Honorable Janice Brewer, Chairperson, Maricopa County Board of Supervisors, 301 West Jefferson, 10th Floor, Phoenix, Arizona 85003 | April 3, 2002 | 040037
California:
Kern | Unincorporated Areas of Kern (01-09-804P) | October 22, 2001; October 25, 2001; Bakersfield California | The Honorable Ken Peterson, Chairman, Kern County, Board of Supervisors, 1115 Truxton Avenue, Fifth Floor, Bakersfield, California 93301 | September 27, 2001 | 060075
Orange | City of Huntington Beach (00-09-825P) | November 8, 2001; November 15, 2001; Huntington Beach Independent | The Honorable Pam Julien Houchen, Mayor, City of Huntington Beach, 2000 Main Street, Huntington Beach, California 92648 | February 13, 2002 | 065034
Riverside | City of Norco (02-09-195X) | October 25, 2001; November 1, 2001; Press Enterprise | The Honorable Hal H. Clark, Mayor, City of Norco, 3036 Sierra Avenue, Norco, California 92860 | January 30, 2002 | 060256
Riverside | Unicorporated Areas of Riverside (02-09-195X) | October 25, 2001; November 1, 2001; Press Enterprise | The Honorable Jim Venable, Chairperson, Riverside County, Board of Supervisors, 4080 Lemon Street, 14th Floor, Riverside, California 92501 | January 30, 2002 | 060245
San Diego | City of Carlsbad (01-09-204P) | November 1, 2001; November 8, 2001; North County Times | The Honorable Claude A. Lewis, Mayor, City of Carlsbad, 1200 Carlsbad Village Drive, Carlsbad, California 92008 | October 25, 2001 | 060285
San Diego | City of Escondido (01-09-835P) | January 3, 2002; January 10, 2002; North County Times | The Honorable Lori Pfeiler, Mayor, City of Escondido, 201 North Broadway, Escondido, California 92025 | April 10, 2002 | 060290
San Diego | City of Vista (01-09-568P) | November 28, 2001; December 5, 2001; North County Times | The Honorable Gloria E. McClellan, Mayor, City of Vista, P.O. Box 1988, Vista, California 92085 | November 7, 2001 | 060297
Shasta | City of Redding (01-09-682P) | December 5, 2001; December 12, 2001; Redding Record Searchlight | The Honorable Dave McGeorge, Mayor, City of Redding, 777 Cypress Avenue, Redding, California 96001 | March 12, 2002 | 060360
Ventura | City of Simi Valley (01-09-981P) | December 12, 2001; December 19, 2001; Ventura County Star | The Honorable William Davis, Mayor, City of Simi Valley, 2929 Tapo Canyon Road, Simi Valley, California 93063-2199 | November 26, 2001 | 060421
Colorado:
Adams | City of Aurora (00-08-342P) | November 1, 2001; November 8, 2001; Aurora Sentinel | The Honorable Paul E. Tauer, Mayor, City of Aurora, 1470 South Havana Street, Eighth Floor, Aurora, Colorado 80012-4090 | January 23, 2002 | 080002
Arapahoe | City of Cherry Hills Village (01-08-262P) | October 18, 2001; October 25, 2001; The Villager | The Honorable Joan Duncan, Mayor, City of Cherry Hills Village, 2450 East Quincy Avenue, Cherry Hills Village, Colorado 80110 | January 23, 2002 | 080013
Boulder | City of Broomfield (01-08-339P) | October 31, 2001; November 7, 2001; Boulder Daily Camera | The Honorable William Berens, Mayor, City of Broomfield, One DesCombes Drive, Broomfield, Colorado 80020 | February 5, 2002 | 085073
Larimer | City of Fort Collins (01-08-349P) | December 27, 2001; January 3, 2002; Fort Collins Coloradoan | The Honorable Ray Martinez, Mayor, City of Fort Collins, P.O. Box 580, Fort Collins, Colorado 80522-0580 | November 29, 2001 | 080102
Nevada:
Clark | City of North Las Vegas (01-09-514P) | November 21, 2001; November 28, 2001; Las Vegas Review-Journal | The Honorable Michael L. Montandon, Mayor, City of North Las Vegas, 2200 Civic Center Drive, North Las Vegas, Nevada 89030 | October 31, 2001 | 320007
Washoe | Unincorporated Areas of Washoe (01-09-307P) | December 21, 2001; December 28, 2001; Reno Gazette-Journal | The Honorable Ted Short, Chairman, Washoe County, Board of Commissioners, P.O. Box 11130, Reno, Nevada 89520 | November 26, 2001 | 320019
Texas:
Collin | City of Plano (01-06-1043P) | November 8, 2001; November 15, 2001; Plano Star Courier | The Honorable Jeran Akers, Mayor, City of Plano, P.O. Box 860358, Plano, Texas 75086-0358 | October 17, 2001 | 480140
Dallas | City of Dallas (01-06-1381P) | December 27, 2001; January 3, 2002; Commercial Recorder | The Honorable Ron Kirk, Mayor, City of Dallas, City Hall, 1500 Marilla Street, Dallas, Texas 75201 | December 6, 2001 | 480171
Dallas | City of Sachse (01-06-309P) | November 7, 2001; November 14, 2001; Dallas Morning News | The Honorable Hugh Cairns, Mayor, City of Sachse, City Hall, 5560 Highway 78, Sachse, Texas 75048 | October 12, 2001 | 480186
Dallas | Unicorporated Areas of Dallas (01-06-309P) | November 7, 2001; November 14, 2001; Dallas Morning News | The Honorable Lee F. Jackson, Dallas County Judge, Administration Building, 411 Elm Street, Second Floor, Dallas, Texas 75202 | October 12, 2001 | 480165
Washington:
Cowlitz | Unincorporated Areas of Cowlitz (01-10-401P) | November 8, 2001; November 15, 2001; Daily News | The Honorable Jeff M. Rasmussen, Chairman, Cowlitz County, Board of Commissioners, 207 Fourth Avenue North, Kelso, Washington 98626 | February 13, 2002 | 530032
Whatcom | Unincorporated Areas of Whatcom (01-10-534P) | November 29, 2001; December 6, 2001; Bellingham Herald | The Honorable Pete Kremen, County Executive, Whatcom County, 311 Grand Avenue, Suite 108, Bellingham, Washington 98225 | November 13, 2001 | 530198

(Catalog of Federal Domestic Assistance No. 83.100, “Flood Insurance.”)

Dated: January 29, 2002.
Robert F. Shea,
Acting Administrator, Federal Insurance and Mitigation Administration.

[FR Doc. 02-2668 Filed 2-4-02; 8:45 am]

BILLING CODE 6718-04-P